DEPARTMENT OF AGRICULTURE

Rural Utilities Service

Rural Energy Savings Program; Measurement, Verification, Training and Technical Assistance; Correction

AGENCY: Rural Utilities Service, USDA.

ACTION: Notice; correction.

SUMMARY: The Rural Utilities Service (RUS) published in the Federal Register, on May 24, 2016, a Notice of Comment Solicitation, Rural Energy Savings Program: Measurement, Verification, Training and Technical Assistance. Inadvertently, an inaccurate citation to the Code of Federal Register (CFR) was included in the Notice. This document removes the inaccurate CFR citation and replaces it with the correct citation to the Federal Register. The corrected citation directs readers to the CFR regulation that describes types of eligible borrowers who are entities that may also participate in the Rural Energy Savings Program (RESP).

DATES: Effective on June 6, 2016.

FOR FURTHER INFORMATION CONTACT: Titilayo Ogunyale, Senior Advisor, Office of the Administrator, Rural Utilities Service, Rural Development, United States Department of Agriculture, 1400 Independence Avenue SW., STOP 1510, Room 5136-S, Washington, DC 20250-1510; Telephone: (202) 720-0736; Email: Titilayo.Ogunyale@wdc.usda.gov.

SUPPLEMENTARY INFORMATION: The Rural Utilities Service (RUS) published in the Federal Register on May 24, 2016, at 81 FR 32719, a Notice of Comment Solicitation seeking input on the Rural Energy Savings Program. Inadvertently, an inaccurate citation to the Code of Federal Register (CFR) was included in the Notice. This document removes all references to the inaccurate CFR citation published on May 24, 2016, and replaces it with the correct citation to the CFR.

In the Notice of Comment Solicitation FR Doc. 2016-12192 published May 24, 2016, at 81 FR 32719, make the following correction. Remove “7 CFR 1710.10” and add in its place “7 CFR 1710.101” on the following page:

Page 32719, third column, “Entities eligible to borrow from RUS and relend to consumers pursuant to RESP are not restricted to electric utilities per se; entities owned or controlled by current or former RUS borrowers and those entities described in 7 CFR 1710.101 may also participate in the RESP program.”

Dated: May 26, 2016.
Brandon McBride,
Administrator, Rural Utilities Service.

[FR Doc. 2016-13248 Filed 6-3-16; 8:45 am]

BILLING CODE P